DEPARTMENT OF COMMERCE

National Oceanic and Atmospheric Administration

RIN 0648-XA537

Endangered and Threatened Species; Take of Anadromous Fish

AGENCY: National Marine Fisheries Service (NMFS), National Oceanic and Atmospheric Administration (NOAA), Commerce.

ACTION: Issuance of three scientific research permits.

SUMMARY: Notice is hereby given that NMFS has issued Permit 15548 to T.R. Payne and Associates, Permit 14419 to the Sonoma County Water Agency, and Permit 16115 to URS Corporation.

ADDRESSES: The approved application for each permit is available on the Applications and Permits for Protected Species (APPS), https://apps.nmfs.noaa.gov Web site by searching the permit number within the Search Database page. The applications, issued permits and supporting documents are also available upon written request or by appointment: Protected Resources Division, NMFS, 777 Sonoma Avenue, Room 325, Santa Rosa, California 95404 (ph: (707) 575-6097, fax: (707) 578-3435).

FOR FURTHER INFORMATION CONTACT: Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Central California Coast coho salmon (Oncorhyncus kisutch), threatened California Coastal Chinook salmon (O. tshawytscha), and threatened Central California Coast steelhead (O. mykiss).

Permits Issued

Permit 15548

A notice of the receipt of an application for a scientific research permit (15548) was published in the Federal Register on December 8, 2010 (75 FR 76400). Permit 15548 was issued to T.R. Payne and Associates on March 21, 2011.

Permit 15548 authorizes capture by backpack electrofishing, handling (measuring), and release of juvenile Central California Coast (CCC) steelhead. Permit 15548 authorizes unintentional lethal take of: juvenile CCC steelhead not to exceed 3 percent of the total number of fish captured. Permit 15548 does not authorize any lethal take of adult CCC steelhead.

Permit 15548 is for research to be conducted in Suisun Creek, Green Valley Creek, and Ledgewood Creek in Solano and Napa counties in California. The purpose of the project is to collect data in these watersheds to monitor the distribution, relative abundance and diversity of the fish populations and to describe the existing habitat conditions. Permit 15548 expires on December 31, 2021.

Permit 14419

A notice of the receipt of an application for a scientific research permit (14419) was published in the Federal Register on February 15, 2011 (76 FR 8713). Permit 14419 was issued to the Sonoma County Water Agency on April 25, 2011.

Permit 14419 authorizes the Sonoma County Water Agency (SCWA) to take adult and juvenile California Coastal (CC) Chinook salmon, adult and juvenile Central California Coast (CCC) coho salmon, and adult and juvenile CCC steelhead associated with five research projects in the Russian River watershed in central California. The goal is to detect and depict trends in ESA-listed salmonid populations in the Russian River watershed and to monitor the results of salmonid habitat enhancement efforts in this watershed.

Under Permit 14419, authorized researched methods include downstream-migrant trapping (rotary screw traps, fyke nets, and pipe/funnel nets), electrofishing (backpack and boat), beach seining, fin-clipping, scale sampling, passive integrated transponder (PIT) tagging, acoustic/radio telemetry, gastric lavage, otolith extraction, and anesthetizing and handling fish. Permit 14419 does not authorize any intentional lethal take of ESA-listed salmonids. Permit 14419 authorizes unintentional lethal take of ESA-listed salmonids associated with research activities not to exceed three percent of the annual total expected take for each species and life-stage. Permit 14419 expires on December 31, 2021.

Permit 16115

A notice of the receipt of an application for a scientific research permit (16115) was published in the Federal Register on March 22, 2011 (76 FR 15946). Permit 16115 was issued to URS Corporation on June 3, 2011.

Permit 16115 authorizes capture by backpack electrofishing, handling (measuring), and release of juvenile Central California Coast (CCC) steelhead. Permit 16115 authorizes unintentional lethal take of juvenile CCC steelhead not to exceed four percent of the total number of fish captured. Permit 16115 does not authorize any lethal take of adult CCC steelhead.

Permit 16115 is for research to be conducted in the Guadalupe River watershed in Santa Clara County, California. The main purpose of the project is to assess mercury levels within individuals of two non ESA-listed target species. In addition to this work, the project will also collect CCC steelhead to determine CCC steelhead presence/absence, distribution, and to determine habitat use and preference within the Guadalupe River watershed. Permit 16115 expires on December 31, 2016.

Dated: June 30, 2011.
Angela Somma,
Chief, Endangered Species Division, Office of Protected Resources, National Marine Fisheries Service.

[FR Doc. 2011-17076 Filed 7-6-11; 8:45 am]

BILLING CODE 3510-22-P